DEPARTMENT OF HEALTH AND HUMAN SERVICES

Administration for Children and Families

45 CFR Parts 270 and 276

Bonus to Reward States for High Performance Under the TANF Program and Data Collection and Reporting Requirements for States and Indian Tribes Under Welfare-to-Work Grants

AGENCY: Administration for Children and Families, HHS.

ACTION: Final rules; correction and removal.

SUMMARY: This document contains three actions. First, we are correcting two words in the high performance bonus final regulations, published August 30, 2000. Second, we are revising or updating two statements in the preamble to these regulations for clarity. Third, we are removing from the Code of Federal Regulations the interim final regulations on Welfare-to-Work data collection, published October 29, 1998, as the Department of Labor now has responsibility for all data collection on this program.

DATES: These actions are effective December 4, 2000.

FOR FURTHER INFORMATION CONTACT: Sean Hurley, Office of Planning, Research and Evaluation, at (202) 401-9297 or Ann Burek, Office of Family Assistance, at (202) 401-4528.

SUPPLEMENTARY INFORMATION:

A. Correction to Final Rule 45 CFR Part 270: Bonus to Reward States for High Performance under the TANF Program

We published final regulations for awarding high performance bonuses to States under the Temporary Assistance for Needy Families (TANF) Program on August 30, 2000 (65 FR 52814). The final regulations specified the measures on which we will base high performance bonus awards and the funds allocation formula.

The measures specified in § 270.4(d) are based on the participation by low-income families in the Medicaid/State Children's Health Insurance Program (SCHIP). In § 270.4(d), we are making two word changes:

1. § 270.4(d)(1)(i) as published on August 30, 2000, reads as follows:

“Beginning in FY 2002, we will measure the number of individuals receiving TANF benefits who are also enrolled in Medicaid or SCHIP, who leave TANF in a calendar year and are enrolled in Medicaid or SCHIP in the fourth month after leaving TANF assistance, and who are not receiving TANF assistance in the fourth month as a percentage of individuals who left TANF in the fiscal year and are not receiving TANF assistance in the fourth month after leaving.”

In this section, we are making one correction. We are deleting the word “calendar” and substituting the word “fiscal.” We are measuring performance based on the fiscal year, rather than the calendar year.

2. § 270.4(d)(2)(ii) as published on August 30, 2000, reads as follows:

“For any given year, we will compare a State's performance on this improvement measure to its performance in the previous year, beginning with a comparison of FY 2000 to FY 2001, based on a quarterly submission by the State as determined by matching individuals (adults and children) who have left TANF assistance and who are not receiving it in the fourth month with Medicaid or SCHIP enrollment data.”

In this section, we are deleting the word “it” and substituting the words “TANF assistance” for clarity.

B. Revisions to Preamble Language

In the preamble to the final regulations for the high performance bonus, we listed a number of other TANF regulations we had published. That list included the September 23, 1998 publication of the Notice of Proposed Rulemaking covering the annual reports of State child poverty rates in relation to the TANF program (63 FR 52814). We are updating this information to note that the final regulation regarding child poverty and the TANF program was published on June 23, 2000 (65 FR 39233).

Also in the preamble to the high performance bonus final regulations, on page 52820 we summarized the major changes in and provisions of the final rule. We are revising item #13 regarding the child care measure to clarify the fiscal years the various components of the child care measure are in effect. The revised language reads as follows:

“Bases competition in FY 2002 on a child care measure which focuses on child care accessibility (the percent of CCDF-eligible children receiving services) and affordability (assessed family co-payments), using data the States currently report to us under the CCDF program; in FY 2003, a component on child care quality is added based on State reimbursement rates.”

C. Removal of 45 CFR Part 276: Data Collection and Reporting Requirements for States and Indian Tribes under Welfare-to-Work Grants

We are removing 45 CFR part 276, the data collection and reporting requirements pertaining to participants in the WtW program, because the Omnibus Consolidated Appropriations Act (Pub. L. 106-113), signed into law on November 29, 1999, revised the data collection and reporting requirements for the Welfare-to-Work (WtW) program under sections 403(a)(5) and 411 of the Social Security Act (Act) to place all the responsibility with the Department of Labor (DOL). At the time we published the interim final rule (October, 1998), DOL and the Department of Health and Human Services shared these responsibilities.

The Omnibus Consolidated Appropriations Act also removed the WtW participant reporting requirements from section 411 of the Act.

The legislation that created the WtW program was in the Balanced Budget Act of 1997, Pub. L. 105-33. DOL's implementation of this legislation included the publication of an interim final rule on November 18, 1997 (62 FR 615588). This interim final rule specified program and administrative requirements, including financial reporting requirements, for formula grantees and competitive grantees. We (ACF) published an interim final rule on October 29, 1998, to implement the reporting requirements related to participant characteristics in the WtW program that were contained in section 411 of the Act.

When the Omnibus Appropriations Act placed responsibility for all data collection with the DOL, the Employment and Training Administration (ETA) of DOL published a notice of proposed information collection requirements for the WtW program on August 20, 2000 (65 FR 51034). Specifically, the notice requested public comment on revisions to two DOL quarterly status reports, i.e., ETA #9068—Report by Formula Grantees and ETA #9068-1—Report by Competitive Grantees. The DOL revisions included reporting of WtW participant data consistent with the amendments under the Omnibus Appropriations Act.

D. Waiver of Notice and Comment Procedures

The Administrative Procedure Act (5 U.S.C. 553(b)(B)) requires that the Department publish a notice of proposed rulemaking unless the Department finds, for good cause, that such notice is impracticable, unnecessary, or contrary to the public interest. In this instance, this notice involves only a withdrawal of regulations that are no longer valid and two minor editorial corrections. Accordingly, the Department has determined that it would be unnecessary and contrary to the public interest to use notice and comment procedures in issuing these amendments.

E. Impact Analysis

No impact analysis is needed for these amendments.

List of Subjects

45 CFR Part 270

Grant programs—social programs; Poverty, Public assistance programs; Reporting and recordkeeping requirements.

45 CFR Part 276

Administrative practice and procedure; Employment; Manpower training programs; Penalties; Public assistance programs; Reporting and recordkeeping requirements; Vocational education.

(Catalog of Federal Domestic Assistance Programs: No.93.558 Temporary Assistance for Needy Families (TANF) Program; State Family Assistance Grants; Tribal Family Assistance Grants; Assistance Grants to Territories; Matching Grants to Territories; Supplemental Grants for Population Increases; Contingency Fund; High Performance Bonus; Decrease in Illegitimacy Bonus. Also, No.17.253 Welfare-to-Work Grants to States and Localities)
Dated: November 17, 2000.
Brian Burns,
Deputy Assistant Secretary for Information Resources Management.

For the reasons set forth in the preamble, 45 CFR part 270 is amended to make two corrections, and 45 CFR part 276 is removed as follows:

PART 270—HIGH PERFORMANCE BONUS AWARDS

1. The authority citation for part 270 continues to read as follows:

Authority: 42 U.S.C. 603(a)(4).

§ 270.4 [Corrected]

2. In § 270.4(d)(1)(i), the word “calendar” is revised to read “fiscal”.

3. In § 270.4(d)(2)(ii), the word “it” is revised to read “TANF assistance”.

PART 276—DATA COLLECTION AND REPORTING REQUIREMENTS FOR STATES AND INDIAN TRIBES UNDER WELFARE-TO-WORK GRANTS [REMOVED]

4. Part 276 is removed from chapter II of title 45 of the Code of Federal Regulations.

[FR Doc. 00-30093 Filed 12-1-00; 8:45 am]

BILLING CODE 4184-01-P